DEPARTMENT OF VETERANS AFFAIRS

[OMB Control No. 2900-0564]

Agency Information Collection Activity Under OMB Review: Direct Deposit Enrollment; International Direct Deposit Enrollment

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: June 10, 2019.

ADDRESSES: Submit written comments on the collection of information through www.Regulations.gov, or to Office of Information and Regulatory Affairs, Office of Management and Budget, Attn: VA Desk Officer, 725 17th St. NW, Washington, DC 20503 or sent through electronic mail to oira_submission@omb.eop.gov. Please refer to “OMB Control No. 2900-0564” in any correspondence.

FOR FURTHER INFORMATION CONTACT: Danny S. Green, (202) 421-1354.

SUPPLEMENTARY INFORMATION:

Authority: 44 U.S.C. 3501-21.

Title: Direct Deposit Enrollment (24-0296); International Direct Deposit Enrollment (24-0296a).

OMB Control Number: 2900-0564.

Type of Review: Reinstatement with change of a previously approved collection.

Abstract: The information collected on these forms will be used to enroll VA benefit recipients in the electronic funds transfer (EFT) program.

An agency may not conduct or sponsor, and a person is not required to respond to a collection of information unless it displays a currently valid OMB control number. The Federal Register Notice with a 60-day comment period soliciting comments on this collection of information was published at 84 FR 7183 on March 1, 2019, page 7184.

Affected Public: Individuals or Households.

Estimated Annual Burden: 1,250 hours.

Estimated Average Burden per Respondent: 15 minutes.

Frequency of Response: On occasion.

Estimated Number of Respondents: 5,000.

By direction of the Secretary.
Danny S. Green,
VA Interim Clearance Officer, Office of Quality, Performance and Risk, Department of Veterans Affairs.

[FR Doc. 2019-09273 Filed 5-9-19; 8:45 am]

BILLING CODE 8320-01-P